DEPARTMENT OF TRANSPORTATION

Federal Aviation Administration

14 CFR Part 39

[Docket No. 2001-NM-04-AD]

RIN 2120-AA64

Airworthiness Directives; Airbus Model A310 Series Airplanes and Airbus Model A300 B4-600, B4-600R, and F4-600R (Collectively Called A300-600) Series Airplanes

AGENCY: Federal Aviation Administration, DOT.

ACTION: Notice of proposed rulemaking (NPRM).

SUMMARY: This document proposes the adoption of a new airworthiness directive (AD) that is applicable to certain Airbus Model A310 series airplanes and Airbus Model A300 B4-600, B4-600R, and F4-600R (collectively called A300-600) series airplanes. This proposal would require revising the Airplane Flight Manual to prohibit the airplane from being moved during inertial reference unit alignment. This action is necessary to prevent a loss of positioning data and a display of incorrect attitude data to the flight crew, which could result in severe consequences to the airworthiness of the airplane if operated under flight conditions with no visual reference. This action is intended to address the identified unsafe condition.

DATES: Comments must be received by May 29, 2001.

ADDRESSES: Submit comments in triplicate to the Federal Aviation Administration (FAA), Transport Airplane Directorate, ANM-114, Attention: Rules Docket No. 2001-NM-04-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-04-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-04-AD.” The postcard will be date stamped and returned to the commenter.

Availability of NPRMs

Any person may obtain a copy of this NPRM by submitting a request to the FAA, Transport Airplane Directorate, ANM-114, Attention: Rules Docket No. 2001-NM-04-AD, 1601 Lind Avenue, SW., Renton, Washington 98055-4056.

Discussion

The Direction Générale de l'Aviation Civile (DGAC), which is the airworthiness authority for, notified the FAA that an unsafe condition may exist on Airbus Model A310 series airplanes and Airbus Model A300 B4-600, B4-600R, and F4-600R (collectively called A300-600) series airplanes with certain Honeywell Inertial Reference Units (IRU), also called Internial Reference Systems (IRS). The DGAC advises that operator reported the loss of positioning data and the display of incorrect attitude data shortly after take-off, because the aircraft had been moved on the ground before the end of the IRU alignment procedure. This condition, if not corrected, could result in severe consequences to the airworthiness of the airplane if operated under flight conditions with no visual reference.

Explanation of Relevant Service Information

Airbus has issued A310 Temporary Revision (TR) 4.03.00/22, and A300-600 TR 4.03.00/22, both dated September 18, 2000, to the Airplane Flight Manual (AFM), which prohibit the flight crew from moving the aircraft during IRU alignment. (In the Temporary Revision page, Inertial Reference Unit—IRU—is referred to as the Intertial Reference System—IRS.) Accomplishment of the actions specified in the TRs is intended to adequately address the identified unsafe condition. The DGAC classified these TRs as mandatory and issued French airworthiness directive 2000-480-325(B), dated November 29, 2000, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require revising the applicable FAA-approved AFMs to prohibit moving the airplane during IRU alignment.

Differences Between Proposed Rule and Foreign Airworthiness Directive

The proposed AD would differ from the parallel French airworthiness directive in that it would require accomplishment of the revision to the applicable AFMs within 10 days after the effective date of this AD. In developing an appropriate compliance time for this AD, the FAA considered not only the DGAC's recommendation, but the degree of urgency associated with addressing the subject unsafe condition, the average utilization of the affected fleet, and the time necessary to perform the revision (less than one hour). In light of all of these factors, the FAA finds a 10-day compliance time for completing the required actions to be warranted, in that it represents an appropriate interval of time allowable for affected airplanes to continue to operate without compromising safety.

Cost Impact

The FAA estimates that 157 airplanes of U.S. registry would be affected by this proposed AD, that it would take approximately 1 work hour per airplane to accomplish the proposed AFM revision, and that the average labor rate is $60 per work hour. Based on these figures, the cost impact of the proposed AD on U.S. operators is estimated to be $9,420, or $60 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2001-NM-04-AD.

Applicability: Model A310 series airplanes and Model A300 B4-600, B4-600R, and F4-600R (collectively called A300-600) series airplanes; certificated in any category; with installed Inertial Reference Units (IRU) Honeywell 10 MCU part number (P/N) HG1050BD02 or HG1050BD05.

Compliance: Required as indicated, unless accomplished previously.

To prevent a loss of positioning data and a display of incorrect attitude data to the flight crew, accomplish the following:

Revision to Airplane Flight Manual (AFM)

(a) Within 10 days after the effective date of this AD, revise the Normal Procedures section of the FAA-approved AFM to include the following information. This may be accomplished by inserting either a copy of this AD or Temporary Revision (TR) 4.03.00/22 into the A310 AFM or the A300-600 AFM, as applicable, facing 4.03.00 page 1.

“COCKPIT PREPARATION

Do not move the aircraft during IRS alignment.

PRIOR TO TAKEOFF

Scan PFD/ND to check correct display of all primary attitude and heading information.”

(b) When the information in TR 4.03.00/22 has been incorporated into FAA-approved general revisions of the AFM, the general revisions may be incorporated in the AFM, and this TR or this AD may be removed from the AFM.

Alternative Methods of Compliance

(c) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 1: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 2: The subject of this AD is addressed in French airworthiness directive 2000-480-325(B), dated November 29, 2000.

Issued in Renton, Washington, on April 19, 2001.
Donald L. Riggin,
Acting Manager, Transport Airplane Directorate, Aircraft Certification Service.

[FR Doc. 01-10345 Filed 4-25-01; 8:45 am]

BILLING CODE 4910-13-U